ENVIRONMENTAL PROTECTION AGENCY

[FRL-9911-43-Region-1; EPA-R01-OW-2014-0202]

Massachusetts Marine Sanitation Device Standard—Notice of Determination

AGENCY: Environmental Protection Agency (EPA).

ACTION: Notice of determination.

SUMMARY: The Regional Administrator of the Environmental Protection Agency (EPA)—New England Region, has determined that adequate facilities for the safe and sanitary removal and treatment of sewage from all vessels are reasonably available for the remaining state coastal waters of the Commonwealth of Massachusetts.

ADDRESSES: Docket: All documents in the docket are listed in the www.regulations.gov index. Although listed in the index, some information is not publicly available, e.g., CBI or other information whose disclosure is restricted by statute. Certain other material, such as copyrighted material, will be publicly available only in hard copy. Publicly available docket materials are available electronically in www.regulations.gov.

FOR FURTHER INFORMATION CONTACT: Ann Rodney, U. S. Environmental Protection Agency—New England Region, Office of Ecosystem Protection, Oceans and Coastal Protection Unit, Five Post Office Square, Suite 100, OEP06-1, Boston, MA 02109-3912. Telephone: (617) 918-1538. Fax number: (617) 918-0538. Email address: rodney.ann@epa.gov.

SUPPLEMENTARY INFORMATION: On March 28, 2014, EPA published a notice that the Commonwealth of Massachusetts had petitioned the Regional Administrator, Environmental Protection Agency, to determine that adequate facilities for the safe and sanitary removal and treatment of sewage from all vessels are reasonably available for the remaining coastal waters of Massachusetts. The petition was filed pursuant to Section 312 (f) (3) of Public Law 92-500, as amended by Public Laws 95-217 and 100-4, for the purpose of declaring these waters a No Discharge Area (NDA).

Section 312 (f) (3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This determination covers three areas: A strip near the state-federal boundary spanning from Manchester-By-The-Sea to Marshfield, a corridor in Vineyard Sound, and a corridor in Nantucket Sound. The state wide NDA will seamlessly integrate the 20 smaller NDAs that have been designated in Massachusetts since 1991. The boundaries for this statewide NDA encompass all Commonwealth of Massachusetts coastal waters: from mean low water along the coast of Massachusetts, seaward to the state-federal boundary, north to the border with New Hampshire, and south to the border with Rhode Island: http://www.mass.gov/eea/agencies/czm/program-areas/coastal-water-quality/ndas/.

Massachusetts has certified that there are a total of 132 pumpout facilities in coastal Massachusetts: http://www.mass.gov/eea/agencies/czm/program-areas/coastal-water-quality/clean-boating/pumpout-list.html.

Based on the examination of the petition and its supporting documentation, and information from site visits conducted by EPA New England staff, EPA has determined that adequate facilities for the safe and sanitary removal and treatment of sewage from all vessels are reasonably available for the area covered under this determination. This determination is made pursuant to Section 312 (f) (3) of Public Law 92-500, as amended by Public Laws 95-217 and 100-4.

Dated: May 14, 2014.
H. Curtis Spalding,
Regional Administrator, New England Region.

[FR Doc. 2014-12170 Filed 5-23-14; 8:45 am]

BILLING CODE 6560-50-P